DEPARTMENT OF THE TREASURY

Proposed Collection; Comment Request

AGENCY: Department of the Treasury.

ACTION: Notice and request for comment.

SUMMARY: The Department of the Treasury, on behalf of itself and the Bureau of Consumer Financial Protection (CFPB), as part of its continuing effort to reduce paperwork and respondent burden, invites the general public and other Federal agencies to take this opportunity to comment on proposed and/or continuing information collections, as required by the Paperwork Reduction Act of 1995, Public Law 104-13.

Currently, the Department of the Treasury is soliciting comments concerning a proposed generic information collection for development and evaluation of integrated mortgage loan disclosures required by the Dodd-Frank Wall Street Reform and Consumer Protection Act, Public Law 111-203.

DATES: Written comments are encouraged and must be received on or before September 19, 2011 to be assured of consideration.

ADDRESSES: Direct all written comments to Pamela Blumenthal, Consumer Financial Protection Bureau, 1801 L Street, NW., Washington, DC 20036.

FOR FURTHER INFORMATION CONTACT: Requests for additional information should be directed to Pamela Blumenthal, Consumer Financial Protection Bureau, 1801 L Street, NW., Washington, DC 20036; (202) 435-7167 or by e-mail at pamela.blumenthal@treasury.gov.

SUPPLEMENTARY INFORMATION:

Title: Generic Clearance for Development and Qualitative Evaluation of Integrated Mortgage Loan Disclosure Forms.

OMB Number: 1505-XXXX.

Summary of Collection: The Dodd-Frank Wall Street Reform and Consumer Protection Act, Public Law 111-203, Title X, requires the Consumer Financial Protection Bureau (the“CFPB” or the “Bureau”) to develop model forms that will integrate separate disclosures concerning residential mortgage loans that are required under the Truth in Lending Act (“TILA”) and Real Estate Settlement Procedures Act (“RESPA”). The development of the integrated disclosures will involve qualitative testing of the disclosures given in connection with consummation of the transaction and may involve testing of additional disclosures required by TILA and RESPA during the shopping, application, and origination process. The CFPB will collect qualitative data through a variety of collection methods, which may include interviews, focus groups and the internet, to inform its design and development of the mandated integrated disclosures and their implementation. The information collected through qualitative evaluation methods will inform the disclosure form's design and content, using an iterative process to improve the draft form to make it easier for consumers to use the document to identify the terms of the loan, compare among different loan products, and understand the final terms of the loan transaction.

The development and evaluation process that will be conducted may use focus group sessions, think-aloud interviews, and usability studies. Data collection tools will include: consent forms; participant questionnaires; protocols for individual interviews and focus groups; and tools that seek input from a larger community through the internet.

The Bureau will only submit a collection for approval under this generic clearance if it meets the following conditions:

• The collections are voluntary;

• The collections are low-burden for respondents (based on considerations of total burden hours, total number of respondents, or burden-hours per respondent) and are low-cost for both the respondents and the Federal Government;

• Personally identifiable information (PII) is collected only to the extent necessary and is not retained;

• Information gathered and released beyond the Bureau will indicate the qualitative nature of the information; and

• Information gathered will yield qualitative information; the collections will not be designed or expected to yield statistically reliable results or used as though the results are generalizable to the population of study.

The core objective of the data collection is to help identify and refine specific features of the content or design of the forms to maximize communication effectiveness while minimizing compliance burden. Feedback collected under this generic clearance provides useful information, but it does not yield data that can be generalized to the overall population. This type of generic clearance for qualitative information will not be used for quantitative information collections that are designed to yield reliably actionable results, such as monitoring trends over time or documenting program performance.

As a general matter, information collections will not result in any new system of records containing privacy information and will not ask questions of a sensitive nature, such as sexual behavior and attitudes, religious beliefs, and other matters that are commonly considered private.

Type of Review: New Collection.

Affected Public: Individuals and businesses or other for-profit institutions.

Annual Burden Estimates: Below is a preliminary estimate of the aggregate burden hours for this generic clearance.

Process | Number of respondents | Number of responses per respondent | Average burden per response (minutes) | Total burden hours
Focus groups | 50 | 1 | 90 | 75
One-on-one interviews | 60 | 1 | 90 | 90
Screening | 400 | 1 | 10 | 67
Travel time to site | 110 |  | 30 | 55
Internet tools | 5000 | 5 | 5 | 2,084
Total |  |  |  | 2,371

Request for Comments: Comments submitted in response to this notice will be summarized and/or included in the request for OMB approval. All comments will become a matter of public record. Comments are invited on: (a) Whether the proposed collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Robert Dahl,
Treasury PRA Clearance Officer.

[FR Doc. 2011-18188 Filed 7-19-11; 8:45 am]

BILLING CODE 4810-25-P